DEPARTMENT OF VETERANS AFFAIRS

[OMB Control No. 2900-0915]

Agency Information Collection Activity Under OMB Review: Veterans Benefits Administration (VBA) Contractor Background Investigation Request and VBA Affiliate Background Investigation Request

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden, and it includes the actual data collection instrument.

DATES: Comments and recommendations for the proposed information collection should be sent within 30 days of publication of this notice by clicking on the following link www.reginfo.gov/public/do/PRAMain, select “Currently under Review—Open for Public Comments”, then search the list for the information collection by Title or “OMB Control No. 2900-0915.”

FOR FURTHER INFORMATION CONTACT: VA PRA information: Maribel Aponte, 202-461-8900, vacopaperworkreduact@va.gov.

SUPPLEMENTARY INFORMATION:

Title: VBA Affiliate Background Investigation Request (VA Form 20-10276a).

OMB Control Number: 2900-0915. https://www.reginfo.gov/public/do/PRASearch.

Type of Review: Revision of a currently approved collection.

Abstract: VA Forms 20-10276 and 20-10276a are used to gather the mandatory information to determine eligibility for employment and have physical and logical access for VBA. Without this information, determination of eligibility for employment and access would not be possible.

The new form (VA Form 20-10276a) added to this collection is used to collect information from Affiliates who are applying to work/volunteer for VBA. After the collection, personnel security specialists can perform background investigation work to determine eligibility for employment and to have physical and logical access to VBA Systems.

An agency may not conduct or sponsor, and a person is not required to respond to a collection of information unless it displays a currently valid OMB control number. The Federal Register Notice with a 60-day comment period soliciting comments on this collection of information was published: 89 FR 83953, October 18, 2024.

Affected Public: Individuals or Households.

Estimated Annual Burden: 2,167 hours.

Estimated Average Burden per Respondent: 10 minutes.

Frequency of Response: One time.

Estimated Number of Respondents: 10,000 per year.

Authority: 44 U.S.C. 3501 et seq.

Maribel Aponte,
VA PRA Clearance Officer, Office of Enterprise and Integration, Data Governance Analytics, Department of Veterans Affairs.

[FR Doc. 2024-30492 Filed 12-20-24; 8:45 am]

BILLING CODE 8320-01-P